DEPARTMENT OF HEALTH AND HUMAN SERVICES

Centers for Disease Control and Prevention

NIOSH Dose Reconstruction Program Ten-Year Review—Phase I Report on Customer Service; Request for Public Review and Comment

AGENCY: National Institute for Occupational Safety and Health (NIOSH), Centers for Disease Control and Prevention, Department of Health and Human Services.

ACTION: Request for public comment.

SUMMARY: NIOSH requests public review and comment on the draft publication, “NIOSH Dose Reconstruction Program Ten-Year Review—Phase I Report on Customer Service.” This publication is part of a review by NIOSH of its program in support of the role of the Secretary of Health and Human Services under the Energy Employees Occupational Illness Compensation Program Act of 2000 (The Act). As stated in NIOSH Docket #194, Phase I of the review is a data-driven assessment of the dose reconstruction program. The information provided in Phase I will be used by NIOSH in considering recommendations for improving the program during Phase II of the review.

This publication is the Phase I report on one of the five topics under consideration during the program review: The customer service provided by NIOSH in the program. The document can be found at http://www.cdc.gov/niosh/docket/archive/docket194.html.

ADDRESSES: Written comments may be submitted to the NIOSH Docket Office, Robert A. Taft Laboratories, 4676 Columbia Parkway, MS-C34, Cincinnati, Ohio 45226. All material submitted should reference docket number NIOSH-194 and must be submitted by April 25, 2011 to be considered by the Agency. All electronic comments should be formatted in Microsoft Word. In addition, comments may be sent via e-mail to nioshdocket@cdc.gov or by facsimile to 513-533-8285. A complete electronic docket containing all comments submitted will be available on the NIOSH Web page at http://www.cdc.gov/niosh/docket, and comments will be available in writing by request. NIOSH includes all comments received without change in the electronic docket, including any personal information.

FOR FURTHER INFORMATION CONTACT: Chia Chang, NIOSH, 395 E St SW., Washington, DC 20201, 202-245-0625.

John Howard,
Director, National Institute for Occupational Safety and Health.

[FR Doc. 2011-3822 Filed 2-18-11; 8:45 am]

BILLING CODE 4163-18-P